DEPARTMENT OF LABOR

Employment and Training Administration

[TA-W-59,416]

Saint-Gobain Ceramics Microelectronics Division, Sanborn, NY; Notice of Termination of Investigation

Pursuant to section 221 of the Trade Act of 1974, as amended, an investigation was initiated on May 18, 2006 in response to a worker petition filed by a company official on behalf of workers of Saint-Gobain Ceramics, Microelectronics Division, Sanborn, New York.

The petitioning group of workers is covered by an earlier petition (TA-W-59,247) filed on April 20, 2006 that is the subject of an ongoing investigation for which a determination has not yet been issued. Further investigation in this case would duplicate efforts and serve no purpose; therefore the investigation under this petition has been terminated.

Signed at Washington, DC, this 23rd day of May 2006.
Linda G. Poole,
Certifying Officer, Division of Trade Adjustment Assistance.

[FR Doc. E6-8951 Filed 6-7-06; 8:45 am]

BILLING CODE 4510-30-P